DEPARTMENT OF STATE

[Public Notice 5446]

Update on Current Universal Postal Union Issues

AGENCY: Department of State.

ACTION: Notice of briefing.

The Department of State will host a briefing on Wednesday, July 19, 2006, to provide an update on current Universal Postal Union issues, including the results of the March 2006 session of the UPU Postal Operations Council in Bern.

The briefing will be held from 1:30 p.m. until approximately 4 p.m., on July 19, 2006 in Room 1207 of the Department of State, 2201 C Street, NW., Washington, DC. The briefing will be open to the public up to the capacity of the meeting room of 50.

Special attention will be paid to further reform of the UPU, terminal dues, priorities of the Consultative Committee, the UPU's efforts to measure service performance and achievement of UPU strategic plans, and the U.S. Government policy toward extraterritorial offices of exchange. Dennise Mathieu, Director of the Office of Technical Specialized Agencies of the Department of State, will chair the briefing.

Entry to the Department of State building is controlled and will be facilitated by advance arrangements. In order to arrange admittance, persons desiring to attend the briefing should, no later than close of business on July 18, 2006, notify the Office of Technical and Specialized Agencies, Bureau of International Organization Affairs, Department of State, preferably by fax. The name of the meeting and the individual's name, Social Security number, date of birth, professional affiliation, address and telephone number should be indicated. The fax number to use is (202) 647-8902. Voice telephone is (202) 647-1044. This request applies to both government and non-government individuals.

All attendees must use the main entrance of the Department of State at 22nd and C Streets, NW. Please note that under current security restrictions, C Street is closed to vehicular traffic between 21st and 23rd Streets. Taxis may leave passengers at 21st and C Streets, 23rd and C Streets, or 22nd Street and Constitution Avenue. One of the following means of identification will be required for admittance: Any U.S. driver's license with photo, a passport, or any U.S. Government agency identification card.

Questions concerning the briefing may be directed to Mr. Dennis Delehanty at (202) 647-4197 or via e-mail at delehantydm@state.gov.

Dated: June 12, 2006.
Dennise Mathieu,
Office Director for Postal Affairs, Department of State.

[FR Doc. E6-9595 Filed 6-16-06; 8:45 am]

BILLING CODE 4710-19-P